DEPARTMENT OF THE INTERIOR

Geological Survey

[GX15GC009PLSG00]

Agency Information Collection Activity; National Cooperative Geologic Mapping Program (EDMAP and STATEMAP)

AGENCY: United States Geological Survey (USGS), Interior.

ACTION: Notice of extension of a currently approved collection.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on October 31, 2015.

DATES: To ensure that your comments are considered, we must receive them on or before September 9, 2015.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `Information Collection 1028-0088, National Cooperative Geologic Mapping Program (NCGMP—EDMAP and STATEMAP)' in all correspondence. Please also forward a copy of your comments and suggestions on this information collection to the Information Collection Clearance Officer, U.S. Geological Survey, 12201 Sunrise Valley Drive, MS 807, Reston, VA 20192 (mail); (703) 648-7195 (fax); or gs-info_collections@usgs.gov (email).

FOR FURTHER INFORMATION CONTACT: Douglas A. Howard, Associate Program Coordinator NCGMP (STATEMAP and EDMAP), U.S. Geological Survey, 12201 Sunrise Valley Drive, MS 908, 20192 (mail); at 703-648-6978 (telephone); or dahoward@usgs.gov (email).

SUPPLEMENTARY INFORMATION:

I. Abstract

EDMAP is the educational component of the NCGMP that is intended to train the next generation of geologic mappers. The primary objective of the STATEMAP component of the NCGMP is to establish the geologic framework of areas that are vital to the welfare of individual States.

The NCGMP EDMAP program allocates funds to colleges and universities in the United States and Puerto Rico through an annual competitive cooperative agreement process. Every federal dollar that is awarded is matched with university funds. Geology professors, who are skilled in geologic mapping, request EDMAP funding to support undergraduate and graduate students at their college or university in a one-year mentored geologic mapping project that focuses on a specific geographic area. Only State Geological Surveys are eligible to apply to the STATEMAP component of the National Cooperative Geologic Mapping Program pursuant to the National Geologic Mapping Act (Pub. L. 106-148). Since many State Geological Surveys are organized under a State university system, such universities may submit a proposal on behalf of the State Geological Survey.

Each fall, the program announcements are posted to the Grants.gov Web site and respondents are required to submit applications (comprising of Standard Form 424, 424A, 424B, Proposal Summary Sheet, the Proposal, and Budget Sheets. Additionally, EDMAP proposal must include a Negotiated Rate Agreement, and a Support letter from a State Geologist or USGS Project Chief).

Since 1996, more than $5 million from the NCGMP has supported geologic mapping efforts of more than 1,000 students working with more than 244 professors at 148 universities in 44 states, the District of Columbia, and Puerto Rico. Funds for graduate projects are limited to $17,500 and undergraduate project funds limited to $10,000. These funds are used to cover field expenses and student salaries, but not faculty salaries or tuition. The authority for both programs is listed in the National Geologic Mapping Act (Pub. L. 106-148).

We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

II. Data

OMB Control Number: 1028-0088.

Form Number: NA.

Title: National Cooperative Geologic Mapping Program (EDMAP and STATEMAP).

Type of Request: Renewal without change.

Affected Public: University or College faculty and State Geological Surveys.

Respondent's Obligation: None. Required to receive funding.

Frequency of Collections: Annually.

Estimated Total Number of Annual Responses: Approximately 50 University or College faculty and approximately 45 State Geological Survey responses.

Estimated Time per Response: 36 hours.

Estimated Annual Burden Hours: 5,220 hours total. We expect to receive approximately 50 applications for EDMAP and 45 applications for STATEMAP each year which takes each applicant approximately 36 hours to complete, totaling 3,420 hours. This includes the time for project conception and development, proposal writing and reviewing, and submitting a project narrative through Grants.gov. We expect to issue 45 EDMAP and 45 STATEMAP grants per year. The grant recipients are also required to submit a final technical report which takes each grant recipient approximately 20 hours to complete, totaling 1,800 hours.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

To comply with the public consultation process, on March 25, 2015, we published a Federal Register notice (80 FR 15808) announcing our intent to submit this information collection to OMB for approval. In that notice we solicited public comments for 60 days, ending on May 26, 2015. The USGS did not receive any comments. Therefore, we have not changed this collection.

We again invite comments concerning this IC on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology. Please note that any comments submitted in response to this notice are a matter of public record. Before including your address, phone number, email address or other personal identifying information in your comment, you should be aware that your entire comment including your personal identifying information, may be made publically available at any time. While you can ask OMB in your comment to withhold your personal identifying information from public review, we cannot guarantee that will be done.

Douglas A. Howard,
Associate Program Coordinator, National Cooperative Geologic Mapping Program.

[FR Doc. 2015-19503 Filed 8-7-15; 8:45 am]

BILLING CODE 4311-AM-P